DEPARTMENT OF THE INTERIOR

National Park Service

[NPS-NER-WARO-14100; PPNEWARO00/PPMPSAS1Z.YP0000]

Official Trail Marker for the Washington-Rochambeau Revolutionary Route National Historic Trail

AGENCY: National Park Service, Interior.

ACTION: Notice of designation.

SUMMARY: This notice prescribes the official trail marker insignia of the Washington-Rochambeau Revolutionary Route National Historic Trail. The original graphic image was developed in 2010. It first came into public use in 2011. This publication accomplishes the official designation of the insignia now in use by the National Park Service.

FOR FURTHER INFORMATION CONTACT: Joe DiBello, Superintendent; Washington-Rochambeau Revolutionary Route National Historic Trail; National Park Service; 200 Chestnut Street; Philadelphia, PA 19106; joe_dibello@nps.gov; (215) 597-1581.

SUPPLEMENTARY INFORMATION: The primary author of this document is Joe DiBello, Superintendent of the Washington-Rochambeau Revolutionary Route National Historic Trail.

The insignia depicted below is prescribed as the official trail marker logo for the Washington-Rochambeau Revolutionary Route National Historic Trail, administered by the National Park Service, Washington-Rochambeau Revolutionary Route National Historic Trail office, Philadelphia PA. “Authorization to use this trail marker is controlled by the Secretary of the Interior, acting through the Superintendent of the national historic trail.”

In making this prescription, notice is hereby given that whoever manufactures, sells, or possesses this insignia, or any colorable imitation thereof, or photographs or prints or in any other manner makes or executes any engraving, photograph or print, or impression in the likeness of this insignia, or any colorable imitation thereof, without written authorization from the United States Department of the Interior is subject to the penalty provisions of section 701 of Title 18 of the United States Code.

Authority: Section 5204 of the Omnibus Public Land Management Act of 2009, Pub. L. 111-11, 123 Stat. 991, 1158; National Trails System Act, 161246(c); and Protection of Official Badges, Insignia, etc., 18 U.S.C. 701.

Dated: December 30, 2014.
Joseph DiBello,
Superintendent, Washington-Rochambeau Revolutionary Route National Historic Trail.

Editorial Note: This document was received for publication by the Office of the Federal Register on July 9, 2015.

[FR Doc. 2015-17234 Filed 7-13-15; 8:45 am]

BILLING CODE 4310-WV-P